DEPARTMENT OF THE INTERIOR

Fish and Wildlife Service

[FWS-R2-ES-2012-N240; FXES11150200000-134-FF02ENEH00]

Draft Candidate Conservation Agreement With Assurances and Draft Environmental Assessment; Rio Grande Cutthroat Trout, New Mexico and Colorado

AGENCY: Fish and Wildlife Service, Interior.

ACTION: Notice of availability; request for comment.

SUMMARY: Vermejo Park, LLC, d/b/a Vermejo Park Ranch (Applicant), has applied for an enhancement of survival permit pursuant to Section 10(a)(1)(A) of the Endangered Species Act of 1973, as amended. The permit application includes a draft Candidate Conservation Agreement with Assurances (CCAA) between the U.S. Fish and Wildlife Service (Service) and Vermejo Park Ranch for the Rio Grande cutthroat trout in Taos County, New Mexico, and Costilla County, Colorado. If the Rio Grande cutthroat trout becomes listed in the future, the enhancement of survival permit will become effective, authorizing incidental take of Rio Grande cutthroat trout resulting from ongoing, otherwise lawful activities on enrolled lands. The draft CCAA and the draft environmental assessment are available for public review, and we seek public comment on the potential issuance of the above permit.

DATES: To ensure consideration, please send your written comments by March 26, 2013.

ADDRESSES: Persons wishing to review the application, the draft CCAA, the draft EA, or other related documents may obtain copies by written or telephone request to Field Supervisor, New Mexico Ecological Services Field Office, 505-346-2525 (U.S. mail address below). Electronic copies of these documents are available for review on the New Mexico Ecological Services Field Office Web site: http://www.fws.gov/southwest/es/NewMexico/. The application and related documents will be available for public inspection, by appointment only, during normal business hours (8 a.m. to 4:30 p.m.) at the New Mexico Ecological Services Field Office at the address below.

Comments concerning the application, the draft CCAA, the draft EA, or other related documents should be submitted in writing to the Field Supervisor, by U.S. mail at the New Mexico Ecological Services Field Office, U.S. Fish and Wildlife Service, 2105 Osuna NE., Albuquerque, NM 87113; by telephone at 505-346-2525; or by facsimile at 505-346-2542. Persons who use a telecommunications device for the deaf (TDD) may call the Federal Information Relay Service (FIRS) at 800-877-8339.

Please refer to Permit number TE72923A-0 when submitting comments. Please specify if comments are in reference to the draft CCAA, draft EA, or both.

FOR FURTHER INFORMATION CONTACT: Wally “J” Murphy, Field Supervisor, U.S. Fish and Wildlife Service, New Mexico Ecological Services Field Office, at the address above.

SUPPLEMENTARY INFORMATION: With the assistance of the Service, the Applicant proposes to implement conservation measures for the Rio Grande cutthroat trout by removing threats to its survival and reintroducing it to historically occupied streams. The proposed CCAA would be in effect for 25 years on Vermejo Park Ranch in Taos County, New Mexico, and Costilla County, Colorado. This area constitutes the CCAA's Covered Area. The CCAA has been developed in support of a section 10(a)(1)(A) of the Endangered Species Act (16 U.S.C. 1531 et seq.) (Act) enhancement of survival permit.

If approved, Vermejo Park Ranch will be provided assurances that, should the Rio Grande cutthroat trout be listed, the Service will not require them to provide additional land, water, or financial resources, nor will there be any further restrictions to their land, water, or financial resources than they committed to under the CCAA provisions (50 CFR 17.22(d) and 17.32(d)). Furthermore, if the Rio Grande cutthroat trout is listed, participants would be provided incidental take authorization under the enhancement of survival permit for the level of incidental take on the enrolled lands consistent with the activities under the CCAA provisions.

Background

The Rio Grande cutthroat trout (Oncorhynchus clarkii virginalis) is native to the Rio Grande, Pecos River, and Canadian River basins in New Mexico and Colorado. It is the southernmost subspecies of cutthroat trout. Because of nonnative species introductions, Rio Grande cutthroat trout are now restricted to streams that are narrow and small compared to the larger streams they once occupied; these populations occupy approximately 10 percent of historical habitat. Rio Grande cutthroat trout face a variety of imminent threats, including fragmentation and isolation, small population size, presence of nonnative trout, whirling disease, poor habitat conditions, fire, drought, and the effects of climate change. Because of the range contraction and the imminent threats, we made the Rio Grande cutthroat trout a candidate species on May 14, 2008 (73 FR 27900), indicating that listing of the Rio Grande cutthroat trout was warranted but precluded by higher priority actions. The species was given a listing priority number of 9, indicating a subspecies facing imminent threats of moderate to low magnitude.

Currently, cooperative efforts are in place to restore this subspecies to the Rio Costilla watershed, where much of the habitat for Rio Grande cutthroat trout exists on private land. The CCAA was initiated in order to facilitate conservation and restoration of the Rio Grande cutthroat trout on private lands in New Mexico. Expected conservation benefits for the Rio Grande cutthroat trout from implementation of the conservation measures in this CCAA will be recognized through additional connected populations being maintained over time.

Furthermore, Rio Grande cutthroat trout conservation will be enhanced by providing regulatory assurances under the Act for the participating property owner. There will be a measure of security for the participating landowner in the knowledge that they will not incur additional land use restrictions if the species is listed under the Act. The Applicant has committed to implementation of the CCAA and requests issuance of the enhancement of survival permit in order to address the take prohibitions of section 9 of the Act should the species become listed in the future.

The draft CCAA and application for the enhancement of survival permit are not eligible for categorical exclusion under the National Environmental Policy Act (NEPA) of 1969. A draft environmental assessment has been prepared to further analyze the direct, indirect, and cumulative impacts of the CCAA on the quality of the human environment and other natural resources.

Public Availability of Comments

All comments we receive become part of the public record. Requests for copies of comments will be handled in accordance with the Freedom of Information Act, NEPA, and Service and Department of the Interior policies and procedures. Before including your address, phone number, email address, or other personal identifying information in your comment, you should be aware that your entire comment—including your personal identifying information—may be made publicly available at any time. While you can ask us to withhold your personal identifying information from public review, we cannot guarantee we will be able to do so.

Authority

We provide this notice under section 10(c) of the Act (16 U.S.C. 1531 et seq.) and its implementing regulations (50 CFR 17.22 and 17.32), and the National Environmental Policy Act (42 U.S.C. 4371 et seq.) and its implementing regulations (40 CFR part 1506.6).

Joy E. Nicholopoulos,
Acting Regional Director, Region 2, Albuquerque, New Mexico.

[FR Doc. 2013-01573 Filed 1-24-13; 8:45 am]

BILLING CODE 4310-55-P